ENVIRONMENTAL PROTECTION AGENCY

[FRL-9805-3]

EPA Office of External Affairs and Environmental Education; Cancellation of the National Environmental Education Advisory Council Meetings Scheduled for May 22, 2013 and June 19th, 2013

AGENCY: Environmental Protection Agency (EPA).

ACTION: Notice.

SUMMARY: The U.S. Environmental Protection Agency (EPA or Agency) Office of External Affairs and Environmental Education (OEAEE) is issuing this notice to cancel the May 22, 2013 NEEAC Teleconference and the June 19th, 2013 NEEAC teleconference. The notice of this meeting was previously published in the Federal Register on February 21, 2013. FR Doc No: 2013-04028

FOR FURTHER INFORMATION CONTACT: For information regarding this cancellation of the meetings, please contact Mr. Javier Araujo, Designated Federal Officer (DFO), EPA National Environmental Education Advisory Council, at (202) 564-2642 or email at: Araujo.javier@epa.gov

Dated: April 11, 2013.
Javier Araujo,
Designated Federal Officer.

[FR Doc. 2013-09552 Filed 4-22-13; 8:45 am]

BILLING CODE 6560-50-P